DEPARTMENT OF THE INTERIOR

Fish and Wildlife Service

Notice of Availability of the Final Comprehensive Conservation Plan and Environmental Impact Statement for Nisqually National Wildlife Refuge

AGENCY: Fish and Wildlife Service, Department of the Interior.

ACTION: Notice of Availability of the Final Comprehensive Conservation Plan and Environmental Impact Statement for Nisqually National Wildlife Refuge.

SUMMARY: The U.S. Fish and Wildlife Service (Service) announces that a Final Comprehensive Conservation Plan and Environmental Impact Statement (Final CCP/EIS) for Nisqually National Wildlife Refuge (Refuge) is available for review and comment. This Final CCP/EIS, prepared pursuant to the National Wildlife Refuge System Administration Act of 1966, as amended and the National Environmental Policy Act of 1969, describes the Service's proposal for management of the Refuge for the next 15 years. Proposed changes to the Refuge being considered include the restoration of historic estuarine habitat and dike removal; a proposed expansion of the approved Refuge boundary; changes to the trail system; opening the Refuge to waterfowl hunting; and establishing a speed limit of five miles per hour in Refuge waters for all water craft.

DATES: A Record of Decision may be signed no sooner than 30 days after publication of this notice (40 CFR 1506.10(b)(2)).

FOR FURTHER INFORMATION CONTACT: For further information or to request a copy of the Summary of Changes and Appendix M (Comments and Responses) document, contact Jean Takekawa, Refuge Manager, via telephone at (360) 753-9467, fax at (360) 534-9302, or in writing at Nisqually National Wildlife Refuge Complex, 100 Brown Farm Road, Olympia, Washington 98516. Copies of the Final CCP/EIS may be viewed at Nisqually National Wildlife Refuge and at the following libraries in Washington State: Timberland Community Library in Olympia, Tacoma Public Library; University of Washington's Suzallo Library in Seattle; William J. Reed Library in Shelton; and the Evergreen State College Library in Olympia. The Final CCP/EIS will be available for viewing and downloading online at http://pacific.fws.gov/planning.

SUPPLEMENTARY INFORMATION: Nisqually National Wildlife Refuge is located in western Washington at the southern end of Puget Sound in Thurston and Pierce counties. The Refuge protects one of the few relatively undeveloped large estuaries remaining in Puget Sound. It provides crucial habitat for migratory birds of the Pacific Flyway, including many waterfowl, shorebirds, waterbirds, and seabirds. The Refuge also contains regionally important migration and rearing habitat for salmon, particularly the federally threatened fall chinook salmon. Each year, more than 100,000 visitors come to view wildlife and enjoy and learn about Refuge habitats and the wildlife they support.

The Proposed Action is to adopt and implement a Comprehensive Conservation Plan (CCP) that best achieves the purposes for which the Refuge was established; furthers its vision and goals; contributes to the mission of the National Wildlife Refuge System; addresses significant issues and applicable mandates; and is consistent with principles of sound fish and wildlife management. Implementing the CCP will enable the Refuge to fulfill its critical role in the conservation and management of fish and wildlife resources of the Nisqually River delta and lower watershed, and to provide high quality environmental education and wildlife-dependent recreation opportunities for Refuge visitors. The Service analyzed four alternatives for future management of the Refuge; of these, Alternative D has been identified as the preferred alternative.

Alternative D, modified from the Draft CCP/EIS, would provide a Refuge boundary expansion of 3,479 acres. Restoration of 699 acres of estuarine habitat would be accomplished through removal of a large portion of the exterior Brown Farm Dike. The remaining 263-acre area within a newly constructed dike system would be managed to provide greatly improved freshwater wetland and riparian habitats. Thirty-eight acres of valuable forested surge plain habitat would be restored along the Nisqually River. The environmental education program would be improved and expanded to serve 15,000 students per year. Due to dike removal, the existing 5.5-mile wildlife observation loop trail would be reduced to a 3.5-mile round trip trail, and bank fishing on McAllister Creek would no longer be offered. A new 2.5-mile trail would be developed on Tribal and Refuge properties east of the Nisqually River and a primitive 0.5-mile trail would be provided in surge plain habitat. New fishing opportunities could be provided in the future if appropriate lands were acquired. A seasonal waterfowl hunting program open seven days per week, would be provided on 191 acres of Refuge lands. A speed limit of five miles per hour would be established for all water craft in Refuge waters.

Public comments were requested, considered, and incorporated throughout the planning process in numerous ways. Public outreach has included open houses, public meetings, technical workgroups, planning update mailings, and Federal Register notices. Three previous notices were published in the Federal Register concerning this CCP/EIS (62 FR 52764, October 9, 1997; 65 FR 6390, February 9, 2000; and 67 FR 78009, December 20, 2002). During the Draft CCP/EIS comment period that occurred from December 20, 2002 to February 21, 2003, the Service received a total of 1,717 comments (e-mails, letters, faxes, postcards, comment sheets, visits, or telephone calls). All substantive issues raised in the comments have been addressed through revisions incorporated in the Final CCP/EIS text or in responses contained in Appendix M of the Final CCP/EIS.

Dated: August 24, 2004.
Chris McKay,
Acting Regional Director, Region 1, Portland, Oregon.

[FR Doc. 04-19828 Filed 8-30-04; 8:45 am]

BILLING CODE 4310-55-P